DEPARTMENT OF ENERGY

Federal Energy Regulatory Commission

[Docket No. IC12-4-000]

Commission Information Collection Activities, Proposed Collection (FERC-716); Comment Request; Extension

AGENCY: Federal Energy Regulatory Commission.

ACTION: Notice of proposed information collection and request for comments.

SUMMARY: In compliance with the requirements of section 3506(c)(2)(a) of the Paperwork Reduction Act of 1995 (Pub. L. 104-13), the Federal Energy Regulatory Commission (FERC or Commission) is soliciting public comment on the specific aspects of the information collection described below.

DATES: Comments on the collection of information are due by March 5, 2012.

ADDRESSES: Comments may be filed either electronically (eFiled) or in paper format. The comments should refer to Docket No. IC12-4-000. Documents must be prepared in an acceptable filing format and in compliance with Commission submission guidelines at: http://www.ferc.gov/help/submission-guide.asp. eFiling instructions are available at: http://www.ferc.gov/docs-filing/efiling.asp. First time users must follow eRegister instructions at: http://www.ferc.gov/docs-filing/eregistration.asp, to establish a user name and password before eFiling. The Commission will send an automatic acknowledgement to the sender's email address upon receipt of eFiled comments. Commenters making an eFiling should not make a paper filing. Commenters that are not able to file electronically must send an original of their comments to: Federal Energy Regulatory Commission, Secretary of the Commission, 888 First Street, NE., Washington, DC 20426.

Users interested in receiving automatic notification of activity in this docket may do so through eSubscription at: http://www.ferc.gov/docs-filing/esubscription.asp. All comments and FERC issuances may be viewed, printed or downloaded remotely through FERC's eLibrary at: http://www.ferc.gov/docs-filing/elibrary.asp, by searching on Docket No. IC12-4-000. For user assistance, contact FERC Online Support by email at ferconlinesupport@ferc.gov, or by phone at: (866) 208-3676 (toll-free), or (202) 502-8659 for TTY.

FOR FURTHER INFORMATION CONTACT: Ellen Brown may be reached by email at DataClearance@FERC.gov, telephone at (202) 502-8663, by fax at (202) 273-0873.

SUPPLEMENTARY INFORMATION: The Commission uses the information collected under the requirements of FERC-716 (“Good Faith Request for Transmission Service and Response by Transmitting Utility Under Sections 211(a) and 213(a) of the Federal Power Act” [OMB No. 1902-0170]) to implement the statutory provisions of sections 211 and 213 of the Federal Power Act (FPA) as amended and added by the Energy Policy Act 1992. FERC-716 also includes the requirement to file a section 211 request if the negotiations between the transmission requestor and the transmitting utility are unsuccessful. For the initial process, the information is not filed with the Commission. However, the request and response may be analyzed as a part of a section 211 action. The Commission may order transmission services under the authority of FPA 211.

The Commission's regulations in the Code of Federal Regulations (CFR), 18 CFR 2.20, provide standards by which the Commission determines if and when a valid good faith request for transmission has been made under section 211 of the FPA. By developing the standards, the Commission sought to encourage an open exchange of data with a reasonable degree of specificity and completeness between the party requesting transmission services and the transmitting utility. As a result, 18 CFR 2.20 identifies 12 components of a good faith estimate and 5 components of a reply to a good faith request.

Action: The Commission is requesting a three-year extension of the current expiration date with no changes to the existing collection.

Burden Statement: The Commission estimates the Public Reporting Burden for this information collection as:

FERC data collection FERC-716 (OMB control No. 1902-0170) | Number of respondents annually (1) | Number of responses per respondent (2) | Average burden hours per response (3) | Total annual burden hours (1)*(2)*(3)
Information exchange between parties | 3 | 1 | 100 | 300
Application submitted to FERC if parties' negotiations are unsuccessful | 3 | 1 | 2.5 | * 8
Total |  |  |  | 308
* Rounded.

The total annual cost of filing FERC-716 is: 308 hours/2080 hours ¹ × $142,372 = $21,082.²

¹ Number of hours an employee works in a year.

² Average annual salary per employee.

The reporting burden includes the total time, effort, or financial resources expended to generate, maintain, retain, disclose, or provide the information including: (1) Reviewing instructions; (2) developing, acquiring, installing, using technology and systems for the purposes of collecting, validating, verifying, processing, maintaining, disclosing and providing information; (3) adjusting the existing ways to comply with any previously applicable filing instructions and requirements; (4) training personnel to respond to a collection of information; (5) searching data sources; (6) completing and reviewing the collection of information; and (7) transmitting, or otherwise disclosing the information.

The Commission bases the cost estimate for respondents upon salaries within the Commission for professional and clerical support. This cost estimate includes respondents' total salary and employment benefits.

Comments are invited on: (1) Whether the collection of information is necessary for the proper performance of the functions of the Commission, including whether the information will have practical utility; (2) the accuracy of the agency's estimate of the burden of the collection of information, including the validity of the methodology and assumptions used; (3) ways to enhance the quality, utility and clarity of the information to be collected; and (4) ways to minimize the burden of the collection of information on those who are to respond, including through the use of automated collection techniques or other forms of information technology.

Dated: December 27, 2011.
Kimberly D. Bose,
Secretary.

[FR Doc. 2011-33643 Filed 12-30-11; 8:45 am]

BILLING CODE 6717-01-P